FEDERAL COMMUNICATIONS COMMISSION

47 CFR Part 73

[DA 06-1303; MB Docket No. 05-310; RM-11292, RM-11300, RM-11314]

Radio Broadcasting Services; Effingham, and Holton, KS; Humboldt and Pawnee City, NE and Valley Falls, KS

AGENCY: Federal Communications Commission.

ACTION: Proposed rule; dismissal.

SUMMARY: This document dismisses: (1) A petition for rule making filed by Cumulus Licensing, LLC (“Cumulus”) to substitute Channel 245C2 for Channel 244A at Humboldt, Nebraska, reallot Channel 245C2 to Valley Falls, Kansas, and allot Channel 256A at Pawnee City, Nebraska; (2) a counterproposal filed by Cumulus to substitute Channel 245C2 for Channel 244A at Humboldt, reallot Channel 245C2 to Effingham, Kansas, allot Channel 272A at Humboldt, and allot Channel 256A at Pawnee City; (3) a counterproposal filed by Viking Enterprises to allot Channel 245C2 at Holton, Kansas which requires the substitution of Channel 272A for Channel 244A at Humboldt. Cumulus's initial petition for a change of community was technically defective because the proposed allotment was not mutually exclusive with the existing allotment as required by the Commission's rules. Since the Notice of Proposed Rule Making was defective and erroneously issued, the counterproposals must be dismissed.

FOR FURTHER INFORMATION CONTACT: Helen McLean, Media Bureau, (202) 418-2738.

SUPPLEMENTARY INFORMATION: This is a synopsis of the Commission's Report and Order, MB Docket No. 05-310, adopted June 21, 2006, and released June 23, 2006. The full text of this Commission decision is available for inspection and copying during regular business hours at the FCC's Reference Information Center, Portals II, 445 Twelfth Street, SW., Room CY-A257, Washington, DC 20554. The complete text of this decision may also be purchased from the Commission's duplicating contractor, Best Copy and Printing, Inc., 445 12th Street, SW., Room CY-B402, Washington, DC 20554, telephone 1-800-378-3160 or http://www.BCPIWEB.com.

This document is not subject to the Congressional Review Act. (The Commission, is, therefore, not required to submit a copy of this Report and Order to the Government Accountability Office pursuant to the Congressional Review Act, see 5 U.S.C. 801(a)(1)(A) since the proposed rules are dismissed, herein.)

Federal Communications Commission.
John A. Karousos,
Assistant Chief, Audio Division, Media Bureau.

[FR Doc. E6-11053 Filed 7-18-06; 8:45 am]

BILLING CODE 6712-01-P